DEPARTMENT OF TRANSPORTATION

Federal Railroad Administration

[Docket Number FRA-2016-0002-N-27]

Proposed Agency Information Collection Activities; Comment Request

AGENCY: Federal Railroad Administration (FRA), U.S. Department of Transportation (DOT).

ACTION: Notice and request for comments.

SUMMARY: Under the Paperwork Reduction Act of 1995 (PRA), this notice announces that the renewals and reinstatements of the information collection requests (ICRs) abstracted below are being forwarded to the Office of Management and Budget (OMB) for review and comment. The ICRs describe the information collections and their expected burden. On September 23, 2016, FRA published a notice providing a 60-day period for public comment on the ICRs.

DATES: Comments must be submitted on or before December 27, 2016.

FOR FURTHER INFORMATION CONTACT: Mr. Robert Brogan, Information Collection Clearance Officer, Office of Railroad Safety, Safety Regulatory Analysis Division, RRS-21, Federal Railroad Administration, 1200 New Jersey Avenue SE., Mail Stop 25, Washington, DC 20590, (202) 493-6292, or Ms. Kimberly Toone, Information Collection Clearance Officer, Office of Administration, Office of Information Technology, RAD-20, Federal Railroad Administration, 1200 New Jersey Avenue SE., Mail Stop 35, Washington, DC 20590, (202) 493-6132. These telephone numbers are not toll-free.

SUPPLEMENTARY INFORMATION: The PRA, 44 U.S.C. 3501-3520, and its implementing regulations, 5 CFR part 1320, require Federal agencies to issue two notices seeking public comment on information collection activities before OMB may approve paperwork packages. 44 U.S.C. 3506, 3507; 5 CFR 1320.5, 1320.8(d)(1), and 1320.12. On September 23, 2016, FRA published a 60-day notice in the Federal Register soliciting comment on ICRs for which it is now seeking OMB approval. 81 FR 65698-656701. FRA received no comments in response to that notice.

Before OMB decides whether to approve these proposed collections of information, it must provide 30 days for public comment. 44 U.S.C. 3507(b), 5 CFR 1320.12(d). Federal law requires OMB to approve or disapprove paperwork packages between 30 and 60 days after the 30-day notice is published. 44 U.S.C. 3507(b)-(c); 5 CFR 1320.12(d); see also 60 FR 44978, 44983, August 29, 1995. OMB believes the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summary below describes the ICRs and their expected burdens.

Title: Alleged Violation Reporting Form.

OMB Control Number: 2130-0590.

Abstract: The Alleged Violation Reporting Form is a response to section 307(b) of the Rail Safety Improvement Act of 2008, signed into law by President George W. Bush on October 16, 2008, which requires FRA to “provide a mechanism for the public to submit written reports of potential violations of Federal railroad safety and hazardous materials transportation laws, regulations, and orders to the Federal Railroad Administration.” The Alleged Violation Reporting Form allows the general public to submit alleged violations directly to FRA. The form allows FRA to collect information necessary to investigate the alleged violation and to follow up with the submitting party.

The Alleged Violation Reporting Form collects the name, telephone number and email address of the person submitting the alleged violations; the preferred method to contact the person; the railroad or company name that committed the alleged violation, the date and time the alleged violation occurred; the location the alleged violation occurred; and details about the alleged violation. All information is voluntary. FRA collects the information via a form on the FRA public Web site. FRA may share the information collected with FRA employees, State DOT partners, and law enforcement agencies.

Type of Request: Extension with change of a currently approved information collection.

Affected Public: General Public.

Form(s): FRA F 6180.151.

Total Annual Estimated Burden: 80 hours.

Total Annual Estimated Responses: 480.

Status: Regular Review.

Title: Remotely Controlled Switch Operations.

OMB Control Number: 2130-0516.

Abstract: The regulations at 49 CFR 218.30 and 218.77 ensure remotely controlled switches are properly lined to protect workers who are vulnerable to being struck by moving cars as they inspect or service rolling equipment on a particular track or, alternatively, occupy camp cars. FRA believes that creating required notifications promotes safety by minimizing mental lapses of workers who are simultaneously handling several tasks. Sections 49 CFR 218.30 and 218.77 require the operator of remotely controlled switches to maintain a record of each notification requesting Blue Signal Protection for 15 days. Operators of remotely controlled switches use the information as a record documenting Blue Signal Protection of workers or camp cars. This record also serves as a valuable resource for railroad supervisors and FRA inspectors monitoring regulatory compliance.

Type of Request: Extension with change of a currently approved information collection.

Affected Public: Businesses (Railroads).

Form(s): N/A.

Total Annual Estimated Burden: 30,420 hours.

Total Annual Estimated Responses: 1,825,150.

Status: Regular Review.

Title: Bad Order and Home Shop for Repair Card/Tag.

OMB Control Number: 2130-0519.

Abstract: Under 49 CFR part 215, each railroad must inspect freight cars placed in service and take necessary remedial action when defects are identified. Part 215 defects are items that have caused accidents or incidents by freight cars being inadvertently left in service when not properly tagged. A railroad freight car which has any component described as defective in part 215 may be moved to another location for repair only after the railroad has complied the process in § 215.9 to ensure the movement is done safely. Section 215.9 requires railroads to attach a “bad order” or “home shop for repair” card/tag (tag) describing each defect to each side of the freight car. It is imperative that a defective freight car be tagged so it may be readily identified as defective and moved to another location for repair purposes only. At the repair location, the tag serves as a record that the notification requirements under § 215.9(a)(3) have been provided to ensure proper handling of freight cars. Railroads must retain each tag for 90 days to verify proper repairs were made at the designated location. When inspecting a freight car, FRA and State inspectors also review tags to determine whether defective cars are being properly moved according to § 215.9.

Type of Request: Extension without change of a currently approved information collection.

Affected Public: Businesses (Railroads).

Form(s): N/A.

Total Annual Estimated Burden: 15,750 hours.

Total Annual Estimated Responses: 270,000.

Status: Regular Review.

Title: Stenciling Freight Cars.

OMB Control Number: 2130-0520.

Abstract: The requirements for stenciling freight cars that are placed in service are under 49 CFR 215.301. Section 215.301 requires railroads and private car owners to stencil or otherwise display identification marks on freight cars. The identification marks are used by both FRA and the railroads. FRA uses the identification marks to determine the railroads affected, the number and type of cars involved, the commodities being carried, and the territorial and speed limits within which the cars will be operated. FRA reviews this information to determine if the freight car is safe to operate, if the operation qualifies for dedicated service, and is excluded from part 215. Railroads use the required information to provide identification and control so that dedicated cars remain in the prescribed service. In addition, it indicates to FRA that the car is in special service and certain exceptions have been provided for, with respect to part 215.

Request: Reinstatement without change of a previously approved collection that expired.

Affected Public: Businesses (Railroads).

Form(s): N/A.

Total Annual Estimated Burden: 18,750 hours.

Total Annual Estimated Responses: 25,000.

Status: Regular Review.

Title: Grade Crossing Safety.

OMB Control Number: 2130-0534.

Abstract: FRA believes that highway-rail grade crossing (grade crossing) accidents resulting from warning system failures can be reduced. Accordingly, FRA's regulations require railroads to take specific responses in the event of an activation failure (when a grade crossing warning system fails to indicate the arrival of a train at least 20 seconds prior to the train's arrival at the crossing or to indicate the presence of a train occupying the crossing). Specifically, railroads must report to FRA every impact between on-track railroad equipment and an automobile, bus, truck, motorcycle, bicycle, farm vehicle, or pedestrian at a highway-rail grade crossing involving a crossing warning system activation failure. Notification must be provided to the National Response Center within 24 hours of occurrence at the stipulated toll-free telephone number. Additionally, railroads must report to FRA within 15 days each activation failure of a highway-rail grade warning system. Form FRA F 6180.83, “Highway-Rail Grade Crossing Warning System Report,” must be used for this purpose and completed using the instructions printed on the form. With this information, FRA can correlate accident data and equipment malfunctions with the types of circuits and age of equipment. FRA can then identify the causes of activation malfunctions and investigate them to determine whether periodic maintenance, inspection, and testing standards are effective.

Type of Request: Reinstatement with change of a previously approved collection that expired.

Affected Public: Businesses (Railroads).

Form(s): N/A.

Total Annual Estimated Burden: 3,425 hours.

Total Annual Estimated Responses: 15,372.

Status: Regular Review.

Title: Bridge Worker Safety Rules.

OMB Control Number: 2130-0535.

Abstract: Under 49 U.S.C. 20139, FRA must issue rules, regulations, orders, and standards for the safety of maintenance-of-way employees on railroad bridges, including for “bridge safety equipment” such as nets, walkways, handrails, and safety lines, along with requirements for using vessels when work is performed on bridges located over bodies of water. FRA added 49 CFR part 214 to establish minimum workplace safety standards for railroad employees performing work on railroad bridges. Specifically, 49 CFR 214.105(c) establishes standards and practices for safety net systems. Safety nets and net installations must be drop-tested at the job site after initial installation and before being used as a fall-protection system, after major repairs, and at 6-month intervals if left at one site. If a drop-test is not feasible and is not performed, then the railroad or railroad contractor, or designated competent person, must certify the net and its installation comply with the provisions of this section by preparing a certification record prior to the use of the net. The certification must identify the net, the date it was determined the net was in compliance with this section, and the signature of the person making this determination. Such person's signature must certify the net and its installation comply with this section. The most recent certification for each net installation must be available at the jobsite where the subject net is located. FRA and State inspectors use the information to enforce Federal regulations. The information maintained at the job site promotes safe bridge worker practices.

Type of Request: Extension without change of a currently approved information collection.

Affected Public: Businesses (Railroads).

Form(s): N/A.

Total Annual Estimated Burden: 1 hour.

Total Annual Estimated Responses: 6.

Status: Regular Review.

Addressee: Send comments regarding these information collections to the Office of Information and Regulatory Affairs, Office of Management and Budget, 725 Seventeenth Street NW., Washington, DC 20503, Attention: FRA Desk Officer. Comments may also be sent via email to OMB at the following address: oira_submissions@omb.eop.gov.

Comments are invited on the following: Whether the proposed collections of information are necessary for DOT to properly perform its functions, including: (1) Whether the information will have practical utility; the accuracy of DOT's estimates of the burden of the proposed information collections; (2) ways to enhance the quality, utility, and clarity of the information to be collected; and (3) ways to minimize the burden of the collections of information on respondents, including the use of automated collection techniques or other forms of information technology.

A comment to OMB is best assured of having its full effect if OMB receives it within 30 days of publication of this notice in the Federal Register.

Authority: 44 U.S.C. 3501-3520.

Patrick Warren,
Acting Executive Director.

[FR Doc. 2016-28394 Filed 11-23-16; 8:45 am]

BILLING CODE 4910-06-P